DEPARTMENT OF DEFENSE

Department of the Army

[Docket ID USA-2021-HQ-0023]

Proposed Collection; Comment Request

AGENCY: Department of the Army, Department of Defense (DoD).

ACTION: Information collection notice.

SUMMARY: In compliance with the Paperwork Reduction Act of 1995, the Program Executive Officer, Enterprise Information Systems (PEO EIS) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 3, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to PEO EIS, Project Manager (PM) Army Data and Analytics Platforms (ARDAP), 9351 Hall Drive, Bldg 1456, ATTN: Linda O. Jones, or call 571-595-9291.

SUPPLEMENTARY INFORMATION: Title; Associated Form; and OMB Number: Project Manager Army Data Analytics Platforms Climate Survey, OMB Control Number 0702-RDAP.

Needs and Uses: The PM ARDAP Climate Survey is seeking feedback from its civilian, military, and contractor personnel to assess how they feel about the organization and their work environment. The responses will enable PM ARDAP leadership to assess and determine where changes are required. Though the survey is intended to reach all personnel, this proposed collection request only covers public respondents (contractor personnel) as required by the Paperwork Reduction Act. PM ARDAP will distribute this Climate Survey using the MilSuite survey feature, which enables PM ARDAP to create a custom survey for organization-wide distribution with advanced survey statistics to capture, review, and share the responses. Respondents will access and provide their responses to the collection instrument online. They will receive a link that takes them directly to the PM ARDAP Climate Survey in MilSuite. The PM ARDAP Operations Team will review the survey responses and provide data and subsequent analysis to PM ARDAP leadership. The results will enable PM ARDAP leadership to communicate areas for improvement, actions they plan to take or have been taken, and if the changes address the area in need of improvement with its personnel. Additionally, since the survey is annual, PM ARDAP will be able to review and analyze data year to year to identify trends.

Affected Public: Individuals or households.

Annual Burden Hours: 267.5.

Number of Respondents: 535.

Responses per Respondent: 1.

Annual Responses: 535.

Average Burden per Response: 30 minutes.

Frequency: Annually.

Dated: October 29, 2021.
Aaron T. Siegel,
Alternate OSD Federal Register Liaison Officer, Department of Defense.

[FR Doc. 2021-24032 Filed 11-3-21; 8:45 am]

BILLING CODE 5001-06-P